DEPARTMENT OF LABOR

Office of the Secretary

Agency Information Collection Activities; Submission for OMB Review; Comment Request; Claim Adjudication Process for Alleged Presence of Pneumoconiosis

ACTION: Notice.

SUMMARY: The Department of Labor (DOL) is submitting the Office of Workers' Compensation Programs (OWCP) sponsored information collection request (ICR) titled, “Claim Adjudication Process for Alleged Presence of Pneumoconiosis” to the Office of Management and Budget (OMB) for review and approval for use in accordance with the Paperwork Reduction Act of 1995 (PRA), 44 U.S.C. 3501 et seq.

DATES: Submit comments on or before December 19, 2013.

ADDRESSES: A copy of this ICR with applicable supporting documentation; including a description of the likely respondents, proposed frequency of response, and estimated total burden may be obtained from the RegInfo.gov Web site at http://www.reginfo.gov/public/do/PRAViewICR?ref_nbr=201311-1240-001 or by contacting Michel Smyth by telephone at 202-693-4129 (this is not a toll-free number) or sending an email to DOL_PRA_PUBLIC@dol.gov.

Submit comments about this request by mail or courier to the Office of Information and Regulatory Affairs, Attn: OMB Desk Officer for DOL-OWCP, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Information Policy and Assessment Program, Room N1301, 200 Constitution Avenue NW., Washington, DC 20210; or by email: DOL_PRA_PUBLIC@dol.gov.

Authority: 44 U.S.C. 3507(a)(1)(D).

FOR FURTHER INFORMATION CONTACT: Contact Michel Smyth by telephone at 202-693-4129 (this is not a toll-free number) or by email at DOL_PRA_PUBLIC@dol.gov.

SUPPLEMENTARY INFORMATION: In order to ensure full and meaningful public participation, this notice invites public comments to be submitted under the PRA about proposed updates to the Claim Adjudication Process for Alleged Presence of Pneumoconiosis information collection. Specifically, in a Notice of Proposed Rulemaking (NPRM) published in the Federal Register on June 13, 2013 (78 FR 35575), the DOL proposed both updates to its existing analog film radiograph standards and new parallel standards for digital radiographs applicable to claims filed under the Black Lung Benefits Act, as amended, 30 U.S.C. 901 et seq. If adopted in final, physicians obtaining x-rays of miners on digital radiography systems would submit the radiograph to the DOL in an electronic format. The DOL is incorporating this format change into the existing approved information collection. The DOL believes the NPRM would not impose a new information collection, change the actual data collected, or the estimated information collection (paperwork) burdens imposed on the public; however, the additional format option could be considered a change to the existing information collection, as currently approved under the PRA.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0023.

Interested parties are encouraged to send comments to the OMB, Office of Information and Regulatory Affairs at the address shown in the ADDRESSES section within 30 days of publication of this notice in the Federal Register. In order to help ensure appropriate consideration, comments should reference OMB Control Number 1240-0023. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Claim Adjudication Process for Alleged Presence of Pneumoconiosis.

OMB Control Number: 1240-0023.

Affected Public: Private Sector—Businesses or other for-profits.

Total Estimated Number of Respondents: 24,000.

Total Estimated Number of Responses: 24,000.

Total Estimated Annual Burden Hours: 5,840.

Total Estimated Annual Other Costs Burden: $0.

Dated: November 13, 2013.
Michel Smyth,
Departmental Clearance Officer.

[FR Doc. 2013-27648 Filed 11-18-13; 8:45 am]

BILLING CODE 4510-CK-P